DEPARTMENT OF HEALTH AND HUMAN SERVICES

Administration for Children and Families

Submission for OMB Review; Comment Request

Title: Case Plan Requirement, Section 422, 471(a)(16), 475(1) and 475(5)(A) of the Social Security Act.

OMB No.: 0980-0140.

Description: The Administration for Children and Families (ACF) is requesting authority to renew an existing information collection that is expiring October 31, 2007. The collection of information for the case plan requirement is authorized by titles IV-B, Section 422 (42 U.S.C. 422), and IV-E, Sections 471 and 475 (42 U.S.C. 471 and 475) of the Social Security Act (the Act). States must develop State plans for both titles IV-B and IV-E that are approved by the Secretary, U.S. Department of Health and Human Services. Both plans require that States maintain a case review system that periodically reviews case plans developed for each child receiving services under the Act.

Title IV-B provides for child welfare services funding and title IV-E provides for foster care maintenance payments for eligible children. Sections 422(b)(2) and (8)(A)(ii) of the Act require States to coordinate services and assistance under Federal programs, including titles IV-B and IV-E, and to ensure that States are operating a case review system that meets the requirements of section 475(5) of the Act.

Title IV-E funding, Section 471(a) of the Act, requires that State plans provide for the development of a case plan for each child receiving foster care maintenance payments and provide for a case review system that meets the requirements described in section 475(5)(B) of the Act with respect to each child.

The case plan is a written document that provides a narrative description of the child-specific program of care that addresses the needs of each child regarding safety, permanency and well-being. Federal regulations at 45 CFR 1356.21(g) and section 475(1) of the Act delineate the specific information that should be addressed in the case plan. ACF neither specifies a recordkeeping format for the case plan nor requires submission of the case plan to the Federal Government. Case plan information is recorded in a format developed and maintained by State child welfare agencies. Case plans are periodically reviewed under the purview of State case review systems.

In computing the number of burden hours for this information collection, ACF based the annual burden estimates on States' experiences in developing case plans.

Respondents: State title IV-B and title IV-E Agencies.

Annual Burden Estimates
Instrument | Number of respondents | Number of responses per respondent | Average burden hours per response | Total burden hours
Case Plan | 638,735 | 1 | 4.0 | 2,554,940

Estimated Total Annual Burden Hours: 2,554,940.

Additional Information

Copies of the proposed collection may be obtained by writing to the Administration for Children and Families, Office of Administration, Office of Information Services, 370 L'Enfant Promenade, SW., Washington, DC 20447, Attn: ACF Reports Clearance Officer. All requests should be identified by the title of the information collection. E-mail address: infocollection@acf.hhs.gov.

OMB Comment

OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Fax: 202-395-6974, Attn: Desk Officer for the Administration for Children and Families.

Dated: August 14, 2007.
Robert Sargis,
Reports Clearance Officer.

[FR Doc. 07-4045 Filed 8-17-07; 8:45 am]

BILLING CODE 4184-01-M